TENNESSEE VALLEY AUTHORITY

Sunshine Act Meeting

Agency Holding the Meeting: Tennessee Valley Authority (Meeting No. 07-06).

Time and Date: 9 a.m. EST, November 29, 2007, TVA West Tower Auditorium, 400 West Summit Hill Drive, Knoxville, Tennessee 37902.

Agenda

Old Business

Approval of minutes of September 27, 2007, Board Meeting.

New Business

1. President's Report

2. Report of the Finance, Strategy, and Rates Committee

A. Tax-equivalent payments for FY 07 and estimated payments for FY 08

B. Retention of Net Power Proceeds and Nonpower Proceeds and Payments to the U.S. Treasury

C. Customer issues

i. Rate adjustment to the Fuel Cost Adjustment baseline

ii. Market days option for 5-minute response interruptible product

3. Report of the Operations, Environment, and Safety Committee

A. Gas capacity expansion

B. Contracts with BHP Billiton and Areva for uranium fuel

4. Report of the Human Resources Committee

A. Executive compensation approvals for FY 08

B. Amendments to the TVA Retirement System plans

5. Report of the Audit and Ethics Committee

6. Report of the Community Relations Committee

7. Report of the Corporate Governance Committee

FOR FURTHER INFORMATION: Please call Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: November 21, 2007.
Maureen H. Dunn,
General Counsel and Secretary.

[FR Doc. 07-5855 Filed 11-23-07; 9:41 am]

BILLING CODE 8120-08-P